DEPARTMENT OF ENERGY

Federal Energy Regulatory Commission

[Docket No. RP99-176-014]

Natural Gas Pipeline Company of America; Notice of Proposed Change in FERC Gas Tariff

April 5, 2000.

Take notice that on March 31, 2000, Natural Gas Pipeline Company of America (Natural) tendered for filing to be a part of its FERC Gas Tariff, Sixth Revised Volume No. 1, Original Sheet Nos. 26E, 26F, 26G and 26H, to be effective April 1, 2000.

Natural states that the purpose of this filing is to implement negotiated rate transactions with Central Illinois Light Company, Ameren Intermediate Holding Co., Inc and The Peoples Gas Light and Coke Company under Rate Schedule FTS pursuant to Section 49 of the General Terms and Conditions of Natural's Tariff. Natural further states that these transactions are being filed in accordance with the Commission's ruling that a transportation rate inclusive of surcharges would be considered a negotiated rate transaction.

Natural requests waiver of the Commission's Regulations to the extent necessary to permit Original Sheet Nos. 26E, 26F, 26G and 26H to become effective April 1, 2000.

Natural states that copies of the filing are being mailed to its customers, interested state commissions and all parties set out on the Commission's official service list in Docket No. RP99-176.

Any person desiring to be heard or to protest said filing should file a motion to intervene or a protest with the Federal Energy Regulatory Commission, 888 First Street, NE, Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

Linwood A. Watson, Jr.,
Acting Secretary.

[FR Doc. 00-8905 Filed 4-10-00; 8:45 am]

BILLING CODE 6717-01-M